ELECTION ASSISTANCE COMMISSION

Submission for OMB Review—Evaluation of EAC Educational Products; Comment Request

AGENCY: U.S. Election Assistance Commission (EAC).

ACTION: Notice.

SUMMARY: On September 8, 2009, the EAC published a notice in accordance with Section 3506(c)(2)(A) of the Paperwork Reduction Act of 1995. EAC announced an information collection and sought public comment on the provisions thereof. The EAC, pursuant to 5 CFR 1320.5(a)(iii), intends to submit this proposed information collection (Evaluation of EAC Educational Products) to the Director of the Office of Management and Budget for approval. The Evaluation of EAC Educational Products (Evaluation) asks election officials questions concerning the effectiveness, use, and overall satisfaction with the educational products by State and local election officials. The results of the evaluation will be used internally as a decision-making tool to guide the EAC's determination about future updates and reprints of these work products. Section 202 of HAVA requires EAC to serve as a national clearinghouse and resource for the compilation of information related to the administration of Federal elections. Section 202(3) authorizes EAC to conduct studies and to carry out other duties and activities to promote the effective administration of Federal elections.

DATES: Written comments must be submitted on or before 4 p.m. EDT on December 24, 2009.

Comments: Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology. The information collection tool is available on the EAC Web site (http://www.eac.gov).

Additional Information: Please note that the Office of Management and Budget (OMB) has up to 60 days to approve or disapprove the information collection, but may respond after 30 days. Comments on the proposed information collection should be submitted to OMB within 30 days of this notice. Comments should be sent to the attention of Alex Hunt, Desk Officer for the U.S. Election Assistance Commission, Office of Information and Regulatory Affairs, Office of Management and Budget, Washington, DC 20503. Comments sent to OMB should also be sent to EAC at producteval@eac.gov.

Obtaining a Copy of the Surveys and Focus Group Protocol: To obtain a free copy of the surveys and focus group protocol: (1) Access the EAC Web site at http://www.eac.gov; (2) write to the EAC (including your address and phone number) at U.S. Election Assistance Commission, 1225 New York Avenue, NW., Suite 1100, Washington, DC 20005, ATTN: Educational Products Evaluation.

FOR FURTHER INFORMATION CONTACT: Ms. Karen Lynn-Dyson or Ms. Shelly Anderson at (202) 566-3100.

SUPPLEMENTARY INFORMATION: Title and OMB Number: Evaluation of EAC Educational Products; OMB Number Pending.

Needs and Uses: This proposed information collection activity is necessary to meet requirements of the Help America Vote Act (HAVA) of 2002 (42 U.S.C. 15301). This data collection effort is authorized under the Help America Vote Act (HAVA). Section 202 of HAVA requires EAC to serve as a national clearinghouse and resource for the compilation of information and review of procedures with respect to the administration of Federal elections. Section 202(3) authorizes EAC to conduct studies and to carry out other duties and activities to promote the effective administration of Federal elections. Since 2004, the EAC has issued guidance on various topics to assist State and local election officials in managing and administering elections. This guidance includes a number of management guidelines, best practices, and other related reports. The specific products to be evaluated include: Effective Designs for the Administration of Federal Elections (Ballot Designs); Successful Practices—Poll Worker Recruitment, Training, and Retention; A Guidebook to Recruiting College Poll Workers; State Poll Worker Requirements Compendium; Election Management Guidelines; Quick Start Guides; Election Terminology Glossaries in Six Languages; and A Voter's Guide to Federal Elections. The Evaluation Contractor will conduct an evaluation of the effectiveness, use, and overall satisfaction with the aforementioned products by State and local election officials. The results of the evaluation will be used internally as a decision-making tool to guide the EAC's determination about future updates and reprints of these work products. The evaluation will include the use of surveys and focus groups.

There is one online survey for local election officials and one online survey for State election officials. Each survey is estimated to take 40 minutes to complete.

Affected Public (Respondents): State governments, the District of Columbia, Commonwealth of Puerto Rico, Guam, American Samoa, and the United States Virgin Islands, and local entities.

Affected Public: State and local government.

Number of Respondents: 5,000.

Responses per Respondent: 1.

Estimated Burden per Response: 40 minutes.

Estimated Total Annual Burden Hours: 2,000 hours.

Frequency: One-time data collection.

There will be three focus groups held with approximately 10 participants per group. Each focus group meeting is expected to last one and one-half hours.

Affected Public: Local government.

Number of Respondents: 30.

Responses per Respondent: 1.

Estimated Burden per Response: 1.5 hours.

Estimated Total Annual Burden Hours: 45 hours.

Frequency: One-time data collection.

The following categories of information will be requested of local and State election officials via the surveys and focus groups:

• Familiarity with the EAC educational products;

• Use of EAC educational products;

• The impact of having used EAC educational products on administrative and/or election processes; and,

• Recommendations for improving existing products and/or creation of additional products.

Thomas R. Wilkey,
Executive Director, U.S. Election Assistance Commission.

[FR Doc. E9-28104 Filed 11-23-09; 8:45 am]

BILLING CODE 6820-KF-P